DEPARTMENT OF COMMERCE

International Trade Administration

[A-583-853]

Certain Crystalline Silicon Photovoltaic Products From Taiwan: Final Results of Antidumping Duty Administrative Review; 2014-2016

AGENCY: Enforcement and Compliance, International Trade Administration, Department of Commerce.

SUMMARY: On March 7, 2017, the Department of Commerce (the Department) published the preliminary results of the administrative review of the antidumping duty order on certain crystalline silicon photovoltaic products (solar products) from Taiwan. The period of review (POR) is July 31, 2014, through January 31, 2016. Based on our analysis of the comments received, we have made certain changes to the margin calculations with respect to Sino-American Silicon Products Inc. and Solartech Energy Corp., and, therefore, the final results differ from the preliminary results. We made no changes to the preliminary results with respect to Motech Industries, Inc. The final weighted-average dumping margins are listed below in the section “Final Results of Review.”

DATES: Effective July 7, 2017.

FOR FURTHER INFORMATION CONTACT: Magd Zalok or Thomas Martin, AD/CVD Operations, Office IV, Enforcement and Compliance, International Trade Administration, Department of Commerce, 1401 Constitution Avenue NW., Washington, DC 20230; telephone: (202) 482-4162 or (202) 482-3936, respectively.

SUPPLEMENTARY INFORMATION:

Background

On March 7, 2017, the Department published the Preliminary Results of this administrative review.¹ For the events that occurred since the Preliminary Results, see the Issues and Decision Memorandum.² These final results cover 12 companies.³ The Department conducted this review in accordance with section 751(a) of the Tariff Act of 1930, as amended (the Act).

¹ Certain Crystalline Silicon Photovoltaic Products From Taiwan: Preliminary Results of Antidumping Duty Administrative Review and Partial Rescission of Antidumping Duty Administrative Review; 2014-2016, 82 FR 12802 (March 7, 2017) (Preliminary Results), and accompanying Memorandum, “Decision Memorandum for the Preliminary Results of the 2014-2016 Antidumping Duty Administrative Review of Certain Crystalline Silicon Photovoltaic Products from Taiwan,” dated February 28, 2017 (Preliminary Decision Memorandum).

² See Memorandum, “Issues and Decision Memorandum for the Final Results of the 2014-2016 Administrative Review of the Antidumping Duty Order on Certain Crystalline Silicon Photovoltaic Products from Taiwan,” dated concurrently with this notice and incorporated herein by reference (Issues and Decision Memorandum).

³ The Preliminary Results covered 14 companies. See Preliminary Results, 82 FR at 12803. Subsequently, the Department collapsed Sino-American Silicon Products Inc. (SAS) and Solartech Energy Corp. See Preliminary Decision Memorandum at 3-4. In these final results, the Department has determined that SAS should also be collapsed with Sunrise Global Solar Energy. See Issues and Decision Memorandum at Comment 3. Thus, these final results cover two mandatory respondents, and 10 companies not individually examined. See Final Results of Review section below, for a list of all of the companies.

Scope of the Order

The merchandise covered by this order is crystalline silicon photovoltaic cells, and modules, laminates and/or panels consisting of crystalline silicon photovoltaic cells, whether or not partially or fully assembled into other products, including building integrated materials. Merchandise covered by this order is currently classified in the Harmonized Tariff Schedule of the United States (HTSUS) under subheadings 8501.61.0000, 8507.20.8030, 8507.20.8040, 8507.20.8060, 8507.20.8090, 8541.40.6020, 8541.40.6030 and 8501.31.8000. These HTSUS subheadings are provided for convenience and customs purposes; the written description of the scope is dispositive.⁴

⁴ For a complete description of the scope of the order, see the Issues and Decision Memorandum.

Analysis of Comments Received

All issues raised in the case and rebuttal briefs filed by parties in this review are addressed in the Issues and Decision Memorandum, which is hereby adopted with this notice. A list of the issues which parties raised, and to which we responded in the Issues and Decision Memorandum, can be found in the Appendix to this notice. The Issues and Decision Memorandum is a public document and is on file electronically via Enforcement and Compliance's Antidumping and Countervailing Duty Centralized Electronic Service System (ACCESS). ACCESS is available to registered users at https://access.trade.gov and is available to all parties in the Central Records Unit, room B8024 of the main Department of Commerce building. In addition, a complete version of the Issues and Decision Memorandum can be accessed directly on the Internet at http://enforcement.trade.gov/frn/index.html. The signed Issues and Decision Memorandum and the electronic version of the Issues and Decision Memorandum are identical in content.

Changes Since the Preliminary Results

Based on a review of the record and comments received from interested parties regarding our Preliminary Results, and for the reasons explained in the Issues and Decision Memorandum, we made revisions to our preliminary calculations of the weighted-average dumping margins for Sino-American Silicon Products Inc. (SAS) and Solartech Energy Corp. (Solartech) (hereinafter, SAS-Solartech).5 6 For Motech Industries, Inc. (Motech), the Department made no changes to the Preliminary Results.

⁵ See Issues and Decision Memorandum at comments 4, 7, 10 and 11.

⁶ See Memorandum to The File Through Robert Bolling, Program Manager, AD/CVD Operations, Office IV, From Magd Zalok, AD/CVD Operations, Office 4: 2014-2016 Antidumping Duty Administrative Review of Certain Crystalline Silicon Photovoltaic Products from Taiwan, Final Results Analysis for the SAS-Solartech Entity (Analysis Memorandum for the Final Results), dated concurrently with this notice.

Rate for Non-Examined Companies

The statute and the Department's regulations do not address the establishment of a rate to be applied to companies not selected for examination when the Department limits its examination in an administrative review pursuant to section 777A(c)(2) of the Act. Generally, the Department looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted average dumping margins established for exporters and producers individually investigated, excluding any zero or de minimis margins, and any margins determined entirely {on the basis of facts available}.”

In this review, we calculated weighted-average dumping margins for SAS-Solartech and Motech that are not zero, de minimis, or determined entirely on the basis of facts available. With two respondents, we normally calculate (A) a weighted-average of the dumping margins calculated for the mandatory respondents; (B) a simple average of the dumping margins calculated for the mandatory respondents; and (C) a weighted-average of the dumping margins calculated for the mandatory respondents using each company's publicly-ranged values for the merchandise under consideration. We compare (B) and (C) to (A) and select the rate closest to (A) as the most appropriate rate for all other companies.⁷ Accordingly, we have applied a rate of 4.10 percent to the non-selected companies, as set forth in the chart below.⁸

⁷ See Ball Bearings and Parts Thereof From France, Germany, Italy, Japan, and the United Kingdom: Final Results of Antidumping Duty Administrative Reviews, Final Results of Changed-Circumstances Review, and Revocation of an Order in Part, 75 FR 53661, 53663 (September 1, 2010).

⁸ See Memorandum from Thomas Martin to the File, “Calculation of the Rate for Non-Selected Respondents,” dated dated concurrently with this notice.

Final Results of Review

The Department determines that the following weighted-average dumping margins exist for the period July 31, 2014, through January 31, 2016:

Manufacturer/exporter | Weighted- average margin (percent)
Sino-American Silicon Products Inc./Solartech Energy Corp | 3.56
Motech Industries, Inc | 4.20
AU Optronics Corporation | 4.10
EEPV CORP | 4.10
E-TON Solar Tech. Co., Ltd | 4.10
Gintech Energy Corporation | 4.10
Inventec Energy Corporation | 4.10
Inventec Solar Energy Corporation | 4.10
Kyocera Mexicana S.A. de C.V | 4.10
Sunengine Corporation Ltd | 4.10
TSEC Corporation | 4.10
Win Win Precision Technology Co., Ltd | 4.10

Disclosure

The Department intends to disclose the calculations performed for these final results of review within five days of the date of publication of this notice in the Federal Register, in accordance with 19 CFR 351.224(b).

Assessment

Pursuant to section 751(a)(2)(C) of the Act and 19 CFR 351.212(b), the Department shall determine, and U.S. Customs and Border Protection (CBP) shall assess, antidumping duties on all appropriate entries of subject merchandise in accordance with the final results of this review. The Department intends to issue assessment instructions to CBP 15 days after the date of publication of the final results of this administrative review in the Federal Register.

Where the respondent reported reliable entered values, we calculated importer- (or customer-) specific ad valorem rates by aggregating the dumping margins calculated for all U.S. sales to each importer (or customer) and dividing this amount by the total entered value of the sales to each importer (or customer).⁹ Where the Department calculated a weighted-average dumping margin by dividing the total amount of dumping for reviewed sales to that party by the total sales quantity associated with those transactions, the Department will direct CBP to assess importer- (or customer-) specific assessment rates based on the resulting per-unit rates.¹⁰ Where an importer- (or customer-) specific ad valorem or per-unit rate is greater than de minimis (i.e., 0.50 percent), the Department will instruct CBP to collect the appropriate duties at the time of liquidation.¹¹ Where an importer- (or customer-) specific ad valorem or per-unit rate is zero or de minimis, the Department will instruct CBP to liquidate appropriate entries without regard to antidumping duties.¹²

⁹ See 19 CFR 351.212(b)(1).

¹⁰ Id.

¹¹ Id.

¹² See 19 CFR 351.106(c)(2).

For the companies which were not selected for individual review, we will assign an assessment rate based on the methodology described in the “Rates for Non-Examined Companies” section, above.

Consistent with the Department's assessment practice, for entries of subject merchandise during the POR produced by SAS-Solartech, Motech, or the non-examined companies for which the producer did not know that its merchandise was destined for the United States, we will instruct CBP to liquidate unreviewed entries at the all-others rate if there is no rate for the intermediate company(ies) involved in the transaction.¹³

¹³ For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review, as provided for by section 751(a)(2)(C) of the Act: (1) The cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 19.50 percent,¹⁴ the all-others rate established in the LTFV investigation. These cash deposit requirements, when imposed, shall remain in effect until further notice.

¹⁴ See Certain Crystalline Silicon Photovoltaic Products: Final Determination of Sales at Less Than Fair Value, 79 FR 76966 (December 23, 2014).

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: June 29, 2017.
Ronald K. Lorentzen,
Acting Assistant Secretary for Enforcement and Compliance.

Appendix

List of Topics Discussed in the Issues and Decision Memorandum

I. Summary

II. List of Issues

A. SAS-Solartech-Specific Issues

Comment 1: Whether Products Shipped to the United States are Third-Country Sales

Comment 2: Whether To Exclude Priced Sample Sales

Comment 3: Whether To Assign SAS-Solartech's Rate to Sunrise Global Solar Energy

Comment 4: Whether To Revise the MFRH/U Fields To Reflect the Collapsed Entity

Comment 5: Whether To Revise the Draft Cash Deposit and Assessment Instructions

Comment 6: Differential Pricing

Comment 7: Cost of Manufacturing for Grade 4 Non-Prime Products

Comment 8: Scrap Offset for Two Resold CONNUMs

Comment 9: Year-End Adjustment for Items Relating to Profit

Comment 10: Loss in Inventory Devaluation

Comment 11: Other CPA Adjustment

Comment 12: Scrap Offset

Comment 13: Rental Expenses

Comment 14: Fixed Overhead Costs

Comment 15: G&A and Financial Expenses

B. Motech-Specific Issues

Comment 16: Whether To Apply Partial AFA to Motech's Reported Per-Unit Costs

Comment 17: Whether To Deny Motech's Offset for Silver Paste Scrap

Comment 18: Whether To Include Fire Losses in Motech's General and Administrative (“G&A”) Expenses

Comment 19: Whether To Exclude Motech's Reported “Indirect” U.S. Sales for One Customer

III. Background

IV. Scope of the Order

V. Margin Calculations

VI. Discussion of the Issues

VII. Recommendation

[FR Doc. 2017-14281 Filed 7-6-17; 8:45 am]

BILLING CODE 3510-DS-P